DEPARTMENT OF DEFENSE

Department of the Navy

Notice of Availability of Government-Owned Inventions; Available for Licensing

AGENCY: Department of the Navy, DoD.

ACTION: Notice.

SUMMARY: The inventions listed below are assigned to the United States Government, as represented by the Secretary of the Navy, and are available for domestic and foreign licensing by the Department of the Navy.

The following patents are available for licensing: Patent No. 9,180,528: EXTRACTION DEVICE AND METHOD //Patent No. 9,182,435: METHOD AND SOFTWARE FOR SPATIAL PATTERN ANALYSIS//Patent No. 9,184,805: FRACTAL DIPOLE ANTENNA COMMUNICATION SYSTEMS AND RELATED METHODS AND USE//Patent No. 9,184,822: MEDICAL APPARATUS AND METHODS INLCUDING AN ARRAY SYSTEM FOR SEGMENTING SIGNALS AND GENERATING A COMPLEX WAVEFORM AT A FOCAL POINT USING RECOMBINATION OF SEGMENTED SIGNALS.

ADDRESSES: Requests for copies of the patents cited should be directed to Naval Surface Warfare Center, Crane Div, Code OOL, Bldg 2, 300 Highway 361, Crane, IN 47522-5001.

FOR FURTHER INFORMATION CONTACT: Mr. Christopher Monsey, Naval Surface Warfare Center, Crane Div, Code OOL, Bldg 2, 300 Highway 361, Crane, IN 47522-5001, Email Christopher.Monsey@navy.mil, telephone 812-854-4100.

Authority: 35 U.S.C. 207, 37 CFR part 404

Dated: November 12, 2015.
N.A. Hagerty-Ford,
Commander, Judge Advocate General's Corps, U.S. Navy, Federal Register Liaison Officer.

[FR Doc. 2015-29529 Filed 11-18-15; 8:45 am]

BILLING CODE 3810-FF-P